DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, October 21, 2016, 08:30 a.m. to October 21, 2016, 05:00 p.m., Residence Inn Bethesda, 7335 Wisconsin Avenue, Bethesda, MD, 20814 which was published in the Federal Register on October 4, 2016, 81 FRN 193.

The meeting date has changed from October 21, 2016 to November 21, 2016. The meeting is closed to the public.

Dated: October 5, 2016.
Michelle Trout,
Program Analyst, Office of Federal Advisory Committee Policy.

[FR Doc. 2016-24706 Filed 10-12-16; 8:45 am]

BILLING CODE 4140-01-P